DEPARTMENT OF TRANSPORTATION

Federal Transit Administration

Alternative Transportation in Parks and Public Lands Program

AGENCY: Federal Transit Administration (FTA), DOT.

ACTION: Paul S. Sarbanes Transit in Parks Program Announcement of FY 2011 and Partial 2012 Project Selections.

SUMMARY: The U.S. Department of Transportation's (DOT) Federal Transit Administration (FTA) announces the selection of projects, funded with Fiscal Year (FY) 2011 and 2012 appropriations, and previously unallocated prior year funds, for the Paul S. Sarbanes Transit in Parks program, as authorized by Section 3021 of the Safe, Accountable, Flexible, Efficient Transportation Equity Act—A Legacy for Users of 2005 (SAFETEA-LU) and its extensions, and codified in 49 U.S.C. 5320. The Paul S. Sarbanes Transit in Parks program funds capital and planning expenses for alternative transportation systems in parks and public lands. Federal land management agencies and State, tribal and local governments acting with the consent of a Federal land management agency are eligible recipients.

FOR FURTHER INFORMATION CONTACT: Project sponsors who are State, local, or tribal entities may contact the appropriate FTA regional office at http://www.fta.dot.gov/ for grant-specific issues. Project sponsors who are a Federal land management agency or a specific unit of a Federal land management agency should work with the contact listed below at their headquarters office to coordinate the availability of funds to that unit.

• National Park Service: Mark H Hartsoe, Mark_H_Hartsoe@nps.gov; tel: (202) 513-7025, fax: (202) 371-6675, mail: 1849 C Street NW., (MS2420); Washington, DC 20240-0001.

• Fish and Wildlife Service: Nathan Caldwell, Nathan_Caldwell@fws.gov, tel: (703) 358-2205, fax: (703) 358-2517, mail: 4401 N. Fairfax Drive, Room 634; Arlington, VA 22203.

• Forest Service: Rosana Barkawi, rosanabarkawi@fs.fed.us, tel: (703) 605-4509, mail: 1400 Independence Avenue SW., Washington, DC 20250-1101.

• Bureau of Land Management: Victor F. Montoya, Victor_Montoya@blm.gov, tel: (202) 912-7041, mail: 1620 L Street, WO-854, Washington, DC 20036.

For general information about the Paul S. Sarbanes Transit in Parks program, please contact Adam Schildge, Office of Program Management, Federal Transit Administration, at adam.schildge@dot.gov, (202) 366-0778.

SUPPLEMENTARY INFORMATION: FTA announces the selection of projects for the Paul S. Sarbanes Transit in Parks Program for Fiscal Years 2011 and 2012. As proposed in the Notice of Funding Availability (NOFA) published on March 10, 2011, FTA is including available FY 2012 funding in this selection of projects. Once additional FY 2012 funding becomes available, FTA may select additional projects from the FY 2011 applicants; publish an additional FY 2012 NOFA; incorporate such funds into a future FY 2013 NOFA; or pursue a combination of the above.

A total of $26,844,035 was appropriated for FTA's Paul S. Sarbanes Transit in Parks program in Fiscal Year (FY) 2011. Of this amount, $26,709,535 is available for project awards and $134,500 is reserved for oversight activities. An additional $633,845 is available for project awards in FY 2011 from funds appropriated in 2006, 2008 and 2010. This includes funds previously reserved for other authorized program activities and funds returned from previously awarded projects. The total amount available for FY 2011 is $27,343,380.

The Surface and Air Transportation Programs Extension Act of 2011 provided $13,450,000 for the program for the period of October 1, 2011 through March 31, 2012, which is approximately half of the FY 2011 full-year amount. From this amount, a total of $67,530 is reserved for oversight activities in FY 2012. With the addition of $55,965 in previously unavailable FY 2011 contract authority and $26,985 in funds returned from previously awarded projects, a total of $13,465,420 is available for project awards. The combined total amount of funding for project awards in FY 2011 and 2012 at the time of this announcement is $40,808,800.

FY 2011 & FY 2012 Paul S. Sarbanes Transit in Parks Program
| FY 2011 | FY 2012
Appropriation | $26,844,035 | $13,450,000
Oversight Deduction (0.5%) | (134,500) | (67,530)
FY 2011 Contract Authority |  | 55,965
Prior Year Unobligated Funds | 633,845 | 26,985
Available for Grants | 27,343,380 | 13,465,420

A total of 106 applicants requested $91.1 million, which is more than three times the amount announced in FY 2011 and more than twice the total amount currently available, indicating high competition for funds. A joint review committee of the U.S. Department of Interior, the U.S. Department of Agriculture's Forest Service and DOT evaluated the project proposals based on the criteria defined in 49 U.S.C. 5320(g)(2). Final selections were made through a collaborative process.

The goals of the program are to conserve natural, historical, and cultural resources; reduce congestion and pollution; improve visitor mobility and accessibility; enhance visitor experience; and ensure access to all, including persons with disabilities, through alternative transportation projects. The projects selected to use FY 2011 and 2012 funding represent a diverse set of capital and planning projects across the country, ranging from bus purchases to installation of Intelligent Transportation Systems (ITS), and are listed in Table 1.

Applying for Funds

Recipients who are State or local government entities will be required to apply for Paul S. Sarbanes Transit in Parks program funds electronically through FTA's electronic grant award and management system, TEAM. These entities are assigned discretionary project IDs as shown in Table I and Table II of this notice. The content of these grant applications must reflect the approved proposal. (Note: Applications for the Paul S. Sarbanes Transit in Parks program do not require Department of Labor Certification.) Upon grant award, payments to grantees will be made by electronic transfer to the grantee's financial institution through FTA's Electronic Clearing House Operation (ECHO) system. Staff in FTA's Regional offices are available to assist applicants.

Recipients who are Federal land management agencies will be required to enter into an interagency agreement (IAA) with FTA. FTA will administer one IAA with each Federal land management agency receiving funding through the program for all of that agency's projects. Consistent with section 9.5.2a of the “Department of Transportation Financial Management Policies Manual (October 24, 2006), funds awarded to Federal land management agencies through interagency agreements remain available for a period of five years from execution of the agreement. Individual units of Federal land management agencies should work with the contact at their headquarters office listed above to coordinate the availability of funds to that unit.

Program Requirements

Section 5320 requires funding recipients to meet certain requirements. Requirements that reflect existing statutory and regulatory provisions can be found in the document “Alternative Transportation in Parks and Public Lands Program: Requirements for Recipients” available at www.fta.dot.gov/transitinparks. These requirements are incorporated into the grant agreements and inter-agency agreements used to fund the selected projects.

Pre-Award Authority

Pre-award authority allows an agency that will receive a grant or interagency agreement to incur certain project costs prior to receipt of the grant or interagency agreement and retain eligibility of the costs for subsequent reimbursement after the grant or agreement is approved. The recipient assumes all risk and is responsible for ensuring that all conditions are met to retain eligibility, including compliance with Federal requirements such as the National Environmental Policy Act (NEPA), SAFETEA-LU planning requirements, and provisions established in the grant contract or Interagency Agreement. This automatic pre-award spending authority, when triggered, permits a grantee to incur costs on an eligible transit capital or planning project without prejudice to possible future Federal participation in the cost of the project or projects. Under the authority provided in 49 U.S.C. 5320(h), FTA is extending pre-award authority for FY 2011 and 2012 Paul S. Sarbanes Transit in Parks projects announced in this notice effective January 17, 2012 when the projects were publicly announced.

The conditions under which pre-award authority may be utilized are specified below:

a. Pre-award authority is not a legal or implied commitment that the project(s) will be approved for FTA assistance or that FTA will obligate Federal funds for those projects. Furthermore, it is not a legal or implied commitment that all items undertaken by the applicant will be eligible for inclusion in the project(s).

b. All FTA statutory, procedural, and contractual requirements must be met. This includes adherence to Federal planning requirements for recipients of FTA grants, National Environmental Policy Act (NEPA) requirements, and Federal competitive procurement requirements.

c. No action will be taken by the grantee that prejudices the legal and administrative findings that the Federal Transit Administration must make in order to approve a project.

d. Local funds expended pursuant to this pre-award authority will be eligible for reimbursement if FTA later makes a grant or interagency agreement for the project(s). Local funds expended by the grantee prior to the January 17, 2012 public announcement will not be eligible for credit toward local match or reimbursement. Furthermore, the expenditure of local funds on activities such as land acquisition, demolition, or construction, prior to the completion of the NEPA process, would compromise FTA's ability to comply with Federal environmental laws and may render the project ineligible for FTA funding.

e. When a grant for the project is subsequently awarded, the Financial Status Report in TEAM-Web must indicate the use of pre-award authority, and the pre-award item in the project information section of TEAM should be marked “yes.”

Reporting Requirements

All recipients must submit quarterly reports to FTA containing the following information:

(1) Narrative description of project(s); and,

(2) discussion of all budget and schedule changes.

The headquarters office for each Federal land management agency should collect a quarterly report for each of the projects delineated in the interagency agreement and then send these reports by email to Adam Schildge, FTA, mailto: adam.schildge@dot.gov. Examples can be found on the program Web site at http://www.fta.dot.gov/transitinparks. State, local and tribal governments will provide this information to FTA via the TEAM-Web system for projects that are funded through FTA grants.

The quarterly reports are due to FTA on the dates noted below:

Quarter | Covering | Due date
1st Quarter Report | October 1-December 31 | January 30.
2nd Quarter Report | January 1-March 31 | April 30.
3rd Quarter Report | April 1-June 30 | July 30.
4th Quarter Report | July 1-September 31 | October 30.

In order to allow FTA to compute aggregate program performance measures FTA requires that all recipients of funding for capital projects under the Paul S. Sarbanes Transit in Parks program submit the following information as a part of their fourth quarter report:

Annual visitation to the relevant land unit;

Annual number of persons who use the alternative transportation system (ridership/usage);

An estimate of the number of vehicle trips mitigated based on alternative transportation system usage and the typical number of passengers per vehicle;

Cost per passenger; and,

A note of any special services offered for those systems with higher costs per passenger but more amenities.

Oversight

Recipients of FY 2011 and FY 2012 Paul S. Sarbanes Transit in Parks program funds will be required to certify that they will comply with all applicable Federal and FTA programmatic requirements. FTA direct grantees will complete this certification as part of the annual Certification and Assurances package, and Federal Land Management Agency recipients will complete the certification by signing the interagency agreement. This certification is the basis for oversight reviews conducted by FTA.

The Secretary of Transportation and FTA have elected not to apply the triennial review requirements of 49 U.S.C. 5307(h)(2) to Paul S. Sarbanes Transit in Parks program recipients that are other Federal agencies. Instead, working with the existing oversight systems at the Federal Land Management Agencies, FTA will perform periodic reviews of specific projects funded by the Paul S. Sarbanes Transit in Parks program. These reviews will ensure that projects meet the basic statutory, administrative, and regulatory requirements as stipulated by this notice and the certification. To the extent possible, these reviews will be coordinated with other reviews of the project. FTA direct grantees of Paul S. Sarbanes Transit in Parks program funds (State, local and tribal government entities) will be subject to all applicable triennial, State management, civil rights, and other reviews.

Issued in Washington, DC, January 27, 2012.
Peter Rogoff,
Administrator.

BILLING CODE 4910-57-P

[FR Doc. 2012-2260 Filed 2-2-12; 8:45 am]

BILLING CODE 4910-57-C